DEPARTMENT OF ENERGY

Federal Energy Regulatory Commission

[Project Nos. 2322-069; 2322-071; and 2325-100; Project No. 2574-092; Project No. 2611-091]

Brookfield White Pine Hydro, LLC; Merimil Limited Partnership; Hydro-Kennebec, LLC; Notice of Availability of the Draft Environmental Impact Statement for the Shawmut Hydroelectric Project, Lockwood Hydroelectric Project, Hydro-Kennebec Hydroelectric Project, and Weston Hydroelectric Project

In accordance with the National Environmental Policy Act of 1969 ¹ and the Federal Energy Regulatory Commission's (Commission) regulations, 18 CFR part 380, the Office of Energy Projects has reviewed the application for license for the Shawmut Hydroelectric Project (FERC No. 2322), the proposed Interim Species Protection Plan for the Shawmut Project, and the Final Species Protection Plan for the Lockwood Hydroelectric Project (FERC No. 2574), Hydro-Kennebec Hydroelectric Project (FERC No. 2611), and Weston Hydroelectric Project (FERC No. 2325) and has prepared a draft environmental impact statement (EIS) for the projects. All four projects are located on the Kennebec River, in Kennebec and Somerset Counties, Maine.

¹ National Environmental Policy Act of 1969, amended (Pub. L. 91-190. 42 U.S.C. 4321-4347, as amended by Pub. L. 94-52, July 3, 1975, Pub. L. 94-83, August 9, 1975, Pub. L. 97-258, 4(b), September 13, 1982, Pub. L. 118-5, June 3, 2023).

The draft EIS contains staff's analysis of the applicant's proposal and the alternatives for licensing the Shawmut Project, and amending the licenses for the Shawmut, Lockwood, Hydro-Kennebec, and Weston projects. The draft EIS documents the views of governmental agencies, non-governmental organizations, affected Native-American tribes, the public, the license applicant, and Commission staff.

The Commission provides all interested persons with an opportunity to view and/or print the EIS via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

All comments must be filed by June 4, 2024.

The Commission strongly encourages electronic filing. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket numbers P-2322-069; P-2322-071; P-2325-100; P-2574-092; and P-2611-091.

Anyone may intervene in this proceeding based on this draft EIS (18 CFR 380.10). You must file your request to intervene as specified above.² You do not need intervenor status to have your comments considered.

² Interventions may also be filed electronically via the internet in lieu of paper. See the previous discussion on filing comments electronically.

In addition to or in lieu of sending written comments, you are invited to attend a public meeting that will be held to receive comments on the draft EIS. Commission staff will hold two public meetings for the purpose of receiving comments on the draft EIS. At the meetings, resource agency personnel and other interested persons will have the opportunity to provide oral and written comments and recommendations regarding the draft EIS. The meetings will be recorded by a court reporter, and all statements (verbal and written) will become part of the Commission's public record for the projects. All interested individuals and entities will be invited to attend one or both of the public meetings. A notice detailing the exact date, time, and location of the public meetings will be forthcoming.

For further information, contact Marybeth Gay at Marybeth.gay@ferc.gov or 202-502-6125, or Matt Cutlip at Matt.Cutlip@ferc.gov or 503-552-2762.

Dated: March 28, 2024.
Debbie-Anne A. Reese,
Acting Secretary.

[FR Doc. 2024-07044 Filed 4-2-24; 8:45 am]

BILLING CODE 6717-01-P